DEPARTMENT OF THE INTERIOR

National Park Service

Golden Gate National Recreation Area; Comprehensive Transportation Management Plan; Marin County, CA; Notice of Intent To Prepare an Environmental Impact Statement

Summary: In accord with § 102(2)(C) of the National Environmental Policy Act (42 U.S.C. 4321 et seq.), the National Park Service—and in coordination with Marin County (California) and the California Department of Transportation—is initiating a conservation planning and environmental impact analysis process regarding transportation access and facility improvements to the roadway network between U.S. Highway 101 (at the U.S. Highway 101-State Highway 1 interchange) and Stinson Beach (Pacific Ocean). This roadway network is one of the principal travel corridors connecting the urban centers of Marin, San Francisco and the East Bay with National Park sites in southwest Marin County and the State Park site of Mount Tamalpais (the national park sites include the Muir Woods National Monument, Muir Beach, Stinson Beach, and Tennessee Valley). The Comprehensive Transportation Management Plan Environmental Impact Statement (EIS) will assess alternatives for improving access to and between various park sites to reduce automobile impacts. A key objective will be to identify options to reduce traffic congestion and lower negative effects of existing transportation infrastructure on priority ecological systems. Notice is hereby given that a public scoping process has been initiated with the purpose of eliciting public comment regarding the full spectrum of issues and concerns, including a suitable range of alternatives, the nature and extent of potential environmental impacts and appropriate mitigation strategies, and perceived ecological benefits that should be addressed in drafting the forthcoming EIS.

Background: The project area comprises a network of roads, bridges, trails and parking areas providing access to Muir Woods, Muir Beach, Tennessee Valley and Stinson Beach. Some of the key connecting roads include California Highway 1, Panoramic Highway, and Muir Woods, Frank Valley, and Tennessee Valley Roads. Peak-hour congestion and failing levels of service on some of these roads have become concerns for local jurisdictions and communities as well as the National Park Service (NPS). Also of particular concern is the fact that certain features of the existing transportation system encroaches upon and impact natural systems within the park lands. These include effects on wetlands, floodplains, and riparian corridors. Significant ecological systems within the project area include the fresh water streams and riparian areas of the Redwood Creek watershed, Coyote Creek, and Easkoot Creek.

The Golden Gate National Recreation Area (GGNRA) is partnering with Marin County to prepare a combined Environmental Impact Statement—Environmental Impact Report. The GGNRA and Marin County are co-lead agencies for the environmental review under the National Environmental Policy Act (NEPA) and the California Environmental Quality Act (CEQA), respectively.

The project alternatives will identify actions that improve modes of transportation for accessing the national and state park sites in the project study area. Alternative transportation modes could include public transit, or shuttles. Reservation systems and paid parking also will be considered. Another key component of the project will be to identify improvements that either reduce or eliminate existing impacts of transportation infrastructure (such as roads, parking lots and drainage structures) on ecological systems. Key goals and objectives for the project are:

• Identify and design transportation, access, and facility improvements that protect park resources;

• Improve alternative access and circulation for visitors and residents within the project area;

• Reduce traffic congestion in the project area, and on roadways to and between national and state park sites;

• Improve the quality of the visitor experience, including trip travel, while ensuring that access remains safe, dependable and affordable;

• Improve the health of the ecological resources and systems adversely affected by transportation infrastructure within the project area;

• Improve/enhance design elements for efficient and effective transit access to park sites in the project area;

• Implement effective transportation links with clean technologies to access park sites;

• Provide for an effective transit intercept facility for visitors to Marin national and state park lands (Note: An intercept facility is a parking area or structure providing visitor support services, where visitors may leave their automobiles and travel to park sites via an alternate system such as buses or shuttle systems—rather than driving on congested roadways).

Public Process to Date: Preliminary public and agency planning meetings for the Comprehensive Transportation Management Plan were begun in 1999. The GGNRA, with the assistance of the regional Metropolitan Transportation Commission, convened an interagency group of transportation and resource agencies in the San Francisco Bay Area to develop plans for reducing traffic congestion on the regional roadway system serving park lands. The Park Lands Transportation Taskforce (Taskforce) membership includes GGNRA, Marin County, Federal Highway Administration, California Department of Transportation, City of Sausalito, California State Parks, and the Golden Gate Bridge and Highway Transportation District among other regional agencies.

Under the supervision of the Taskforce, a public research project was conducted in the project area during 2001-2002, and a public survey of persons visiting park sites polled approximately 4,000 individuals at five park sites during peak, shoulder, and off-peak seasons. Information collected included visitor origin and destination, area of residence by park site visited, degree of perceived traffic congestion, and the purpose or recreation activity related to park visits.

The GGNRA and Marin County plan to make informal presentations at community meetings adjacent to the study areas such as Stinson Beach and Muir Beach through September 2002, in addition to a presentation to the GGNRA Advisory Commission meeting in July 2002. Five public scoping workshops are then planned for Fall 2002. These include workshops at the GGNRA Advisory Commission, Stinson Beach, Muir Beach, Tamalpais Valley, and in the city of Berkeley (in the East Bay).

GGNRA and Marin County will develop conceptual approaches to identifying action alternatives for the public scoping workshops. Following the scoping phase, a full range of preliminary action alternatives will be developed and evaluated. The GGNRA and Marin County will then host workshops to review these proposed action alternatives with the public. GGNRA and Marin County anticipate that approximately three action alternatives will be formulated, in addition to the No Action Alternative.

Comments and Public Scoping: As noted, scoping meetings will be held during Fall 2002. The locations, dates and time of scoping meetings will be announced through a direct mailing, a weblink with both GGNRA and Marin County websites, and via local and regional media. All interested individuals, organizations and agencies are encouraged to attend these meetings to comment orally and/or provide written comments or suggestions. Interested persons may also refer to GGNRA web site www.nps.gov/goga/admin/planning/index.htm for more information on this project.

A scoping background document will also be available at the above Web site, and also can be obtained by writing or telephoning as noted below. Comments, suggestions, or relevant information (or requests to be added to the project mailing list) should be sent to: Golden Gate National Recreation Area, CTMP EIS, Attn: Stephen Laughlin, Building 201, Fort Mason, San Francisco, CA 94123 [telephone (415) 561-4941]

All written comments for the scoping phase of the ElS must be postmarked no later than 60 days following the publication of this notice in the Federal Register. If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision Process: Availability of the draft EIS for review and written comment will be announced in the Federal Register notice, as well as local and regional news media, GGNRA website, and via direct mailing to the project mailing list. At this time, the draft EIS is anticipated to be available for public review in the first quarter of the year 2004. To ensure further opportunity to comment on the draft EIS after it is distributed, additional public meetings will be held (dates and locations to be determined). Notice of the availability of the final EIS likewise will be published in the Federal Register. As a delegated EIS, the official responsible for the final NEPA decision is the Regional Director, Pacific West Region. Subsequently, the official responsible for implementing the selected Plan would be the Superintendent, Golden Gate National Recreation Area.

Dated: August 21, 2002.
Arthur E. Eck,
Acting Regional Director, Pacific West Region.

[FR Doc. 02-28519 Filed 11-7-02; 8:45 am]

BILLING CODE 4310-70-P